DEPARTMENT OF COMMERCE

Foreign-Trade Zones Board

[B-46-2016]

Foreign-Trade Zone (FTZ) 189—Kent/Ottawa/Muskegon Counties, Michigan, Authorization of Production Activity, Adient US LLC, Subzone 189D, (Motorized Seat Adjusters for Motor Vehicles), Holland and Zeeland, Michigan

On July 13, 2016, Adient US LLC (Adient), owned by Johnson Controls, Inc., submitted a notification of proposed production activity to the Foreign-Trade Zones (FTZ) Board for its facility within FTZ 189D, at sites in Holland and Zeeland, Michigan.

The notification was processed in accordance with the regulations of the FTZ Board (15 CFR part 400), including notice in the Federal Register inviting public comment (81 FR 49619, July 28, 2016). The FTZ Board has determined that no further review of the activity is warranted at this time. The production activity described in the notification is authorized, subject to the FTZ Act and the Board's regulations, including Section 400.14.

Elizabeth Whiteman,
Acting Executive Secretary.

[FR Doc. 2016-27665 Filed 11-16-16; 8:45 am]

BILLING CODE 3510-DS-P